DEPARTMENT OF EDUCATION

National Board for Education Sciences

AGENCY: Department of Education, Institute of Education Sciences.

ACTION: Notice of an open meeting.

SUMMARY: This notice sets forth the schedule and proposed agenda of an upcoming open meeting of the National Board for Education Sciences. The notice also describes the functions of the committee. Notice of this meeting is required by Section 10(a)(2) of the Federal Advisory Committee Act and is intended to notify the public of their opportunity to attend.

DATES: May 21 and 22, 2008.

Time: May 21, 10 a.m. to 4:30 p.m.; May 22, 8:30 a.m. to 1 p.m.

ADDRESSES: Institute of Education Sciences Board Room, 80 F St., NW., Washington, DC 20208.

FOR FURTHER INFORMATION CONTACT: Norma Garza, Executive Director, National Board for Education Sciences, 555 New Jersey Ave., NW., Room 627 H, Washington, DC 20208; phone: (202) 219-2195; fax: (202) 219-1466; e-mail: Norma.Garza@ed.gov.

Individuals who use a telecommunications device for the deaf (TDD) may call the Federal Information Relay Service (FRS) at 1-800-877-8339.

SUPPLEMENTARY INFORMATION: The National Board for Education Sciences is authorized by Section 116 of the Education Sciences Reform Act of 2002. The Board advises the Director of the Institute of Education Sciences (IES) on the establishment of activities to be supported by the Institute, on the funding for applications for grants, contracts, and cooperative agreements for research after the completion of peer review, and reviews and evaluates the work of the Institute.

On Wednesday May 21, from 10:15 a.m. to 12:15 p.m., the Board will receive reports from the Director of IES and the commissioners of the IES centers on projects underway since January 2008. From 1:30 p.m. to 2:30 p.m., the Board will hear a presentation of its ongoing contract to evaluate the work of IES by the project manager, Steve Baldwin, of Synergy, Inc., after which the Board's Communication and Legislation committees will give their respective reports. The meeting will adjourn at 5:30 p.m.

On Thursday, May 22, the Board will convene at 8:30 a.m. Following a review of the prior day's activities, from 9:45 to 10:45 a.m., the Board will hear a panel discussion on the Family Educational Rights and Privacy Act (FERPA). After a break from 10:45 to 11 a.m., the FERPA panel will continue, followed by a Board discussion of the issues raised. This discussion will conclude at 12:30 p.m. The meeting will adjourn at 1 p.m.

A final agenda will be available from Norma Garza (see contact information above) on May 12. Individuals who will need accommodations for a disability in order to attend the meeting (e.g., interpreting devices, assistance listening devices, or materials in alternative format) should notify Norma Garza no later than May 12. We will attempt to meet requests for accommodations after this date but cannot guarantee their availability. The meeting site is accessible to individuals with disabilities.

Records are kept of all committee proceedings and are available for public inspection at 555 New Jersey Ave., NW., Room 627 H, Washington, DC, 20208, from the hours of 9 a.m. to 5 p.m. Monday through Friday.

Electronic Access to This Document: You may view this document as well as all other documents of this Department published in the Federal Register in text or Adobe Portable Document Format (PDF) on the Internet at the following site: http://www.ed.gov/news/fed-register/index.html.

To use PDF you must have Adobe Acrobat Reader, which is available free at this site. If you have questions about using PDF, call the U.S. Government Printing Office (GPO) toll-free at 1-888-293-6498, or in the Washington, DC, area at (202) 512-1530.

Note: The official version of this document is the document published in the Federal Register. Free Internet access to the official edition of the Federal Register and the Code of Federal Regulations is available on GPO Access at: http://www.gpoaccess.gov/nara/index.html.

Dated: April 18, 2008.
Grover J. Whitehurst,
Director, Institute of Education Sciences.

[FR Doc. E8-8868 Filed 4-23-08; 8:45 am]

BILLING CODE 4000-01-P